GENERAL SERVICES ADMINISTRATION

[Notice-WPD-2014-01; Docket No. 2014-0002; Sequence No. 24]

Notice of Intent To Prepare an Environmental Impact Statement for the Proposed Potomac Hill Campus Master Plan

AGENCY: National Capital Region. U.S. General Services Administration (GSA).

ACTION: Notice of Environmental Impact Statement and public scoping meeting.

SUMMARY: Pursuant to the requirements of the National Environmental Policy Act of 1969 (NEPA), 42 United States Code [U.S.C.] 4321-4347; the Council on Environmental Quality Regulations (Code of Federal Regulations [CFR], Title 40, chapter V, parts 1500-1508); GSA Order PBS P 1095.1F (Environmental considerations in decision-making, dated October 19, 1999); and the GSA Public Buildings Service NEPA Desk Guide, dated October 1999, GSA plans to prepare an Environmental Impact Statement (EIS) for the Potomac Hill Campus Master Plan (PHCMP) at Potomac Hill in the Foggy Bottom neighborhood of Northwest Washington, DC. GSA will be initiating related consultation under Section 106 of the National Historic Preservation Act (NHPA) (16 U.S.C. 470(f) and 470(h-2), 36 CFR Part 800 [Protection of Historic Properties]) for the project.

DATES: The public scoping meeting will be held on Wednesday, July 9, 2014, from 4:00 p.m. to 7:30 p.m. eastern standard time, at St. Mary's Church at 728 23rd Street NW. in Washington, DC.

ADDRESSES: The public scoping meeting will be held at St. Mary's Church at 728 23rd Street, NW., in Washington, DC.

FOR FURTHER INFORMATION CONTACT: Jill Springer, NEPA Specialist, GSA, National Capital Region, at 202-260-3672. Also, please call this number if special assistance is needed to attend and participate in the scoping meeting.

SUPPLEMENTARY INFORMATION: The notice of intent is as follows:

Notice of Intent To Prepare an Environmental Impact Statement

GSA intends to prepare an EIS to analyze the potential impacts resulting from the PHCMP, which will guide the development of approximately 11.8 acres of Northwest DC property under the custody and control of GSA and occupied by the U.S. Department of State (DOS), bounded approximately by the E Street Expressway to the north; 23rd Street NW., to the east; Constitution Avenue to the South; and Interstate 66 access ramps to the west. The primary purpose of this action is to transform the properties historically known as “Navy Hill” and “Potomac Annex” into a unified federal campus that accommodates DOS's operations and security requirements and recognizes the site's historic character.

Background

The U.S. General Services Administration (GSA), in coordination with DOS, proposes the preparation of the PHCMP to guide future redevelopment—the Proposed Action.

The property consists of two adjoining federally owned historic parcels known as Navy Hill and Potomac Annex, in the Foggy Bottom neighborhood of Washington, DC. Together, these parcels constitute the site hereafter referred to as Potomac Hill.

Potomac Hill is an enclosed site, approximately 11.8 acres, located at 2300 E Street, NW. and bounded by 23rd Street NW. to the east, the southern access road within Potomac Annex, and the E Street Expressway (Potomac River Freeway) to the west and north. The site is immediately west of the DOS headquarters, the Harry S Truman building, at 2201 C Street NW.

GSA historically has controlled Navy Hill and its three buildings (South, Central, and East) were occupied by DOS. In 2012, GSA acquired custody and control of Potomac Annex from the U.S. Department of the Navy (Navy) in order to accommodate additional DOS offices, as DOS does not have general authority to acquire real property in the United States. At this time the Potomac Annex buildings (Buildings 1-5) are undergoing renovation for use by DOS.

Purpose and Need

The purpose of the proposed PHCMP is to provide GSA and DOS with a framework to guide the redevelopment of Potomac Hill into a unified federal campus that accommodates DOS's operations and security requirements and recognizes the site's historic character.

The PHCMP is needed to meet DOS's long-term space needs in a manner consistent with provisions of the real property transfer from the Navy to GSA on behalf of DOS. By realigning its real estate portfolio and developing a Potomac Hill Campus, DOS can improve functional operations and accommodate increased space requirements while providing a secure workplace. DOS has determined that multiple operations in non-contiguous locations result in security challenges, increased travel time, decreased productivity, and administrative inefficiencies. DOS has thus identified a critical need to realign its real estate portfolio to meet continuing space and functional mission requirements, provide a more secure workplace, and improve functional operations.

Consolidation will move the agency out of multi-tenant leased locations into a centralized government facility near DOS headquarters, optimizing operations by more efficiently meeting space requirements and concentrating security. In doing so, the PHCMP also supports Executive Order 13327, Federal Real Property Asset Management, enacted to “promote the efficient and economical use of Federal real property resources.”

The PHCMP will use GSA's Design Excellence process and establish design and planning principles to guide the redevelopment, rehabilitation, and restoration efforts associated with existing and new buildings, access points and roadways, open/green space, utility systems, infrastructure, and other site elements in a sustainable way that is sensitive to the site's cultural legacy.

U.S. General Services Administration Mission and Role in the Project

GSA oversees the business of the United States government. The mission of GSA is to deliver the best value in real estate, acquisition, and technology services to government and the American people. Since DOS does not have any general authority to acquire real property in the United States, GSA acquired Potomac Annex to address the customer agency's need for additional federally owned office space proximate to its headquarters. The PHCMP will provide the GSA and DOS with a framework for future use of the site that serves DOS's long-term housing needs, taking into account GSA's standards for historically significant Federal Buildings.

U.S. Department of State Mission

“The core mission of the U.S. Department of State is to advance freedom for the benefit of the American people and the international community by helping to build and sustain a more democratic, secure, and prosperous world composed of well-governed states that respond to the needs of their people, reduce widespread poverty, and act responsibly within the international system.”

DOS missions and functions require a high degree of collaboration, as virtually all DOS organizations are vertically and horizontally integrated. Locational proximity among DOS bureaus improves the communications and collaboration essential to diplomacy and diplomatic success, enabling improved support to Regional and Functional bureaus, as well as to the 250-plus U.S. embassies and consulates around the world.

U.S. Department of State National Capital Region Consolidation Effort

DOS facilities are strategically located worldwide, with centralized functions housed in the District of Columbia (DC) metropolitan area. Increased diplomatic activity worldwide during the past decade has resulted in an increase in space needs for DOS in the National Capital Region. In 2014, the DOS real estate portfolio encompasses 63 buildings comprising 8 million rentable square feet (RSF). The largest concentration of DOS office space is 2 million RSF in DOS headquarters in Washington, DC, also known as the Harry S Truman Building (HST). DOS operations are primarily concentrated in HST and miscellaneous buildings in Foggy Bottom and Rosslyn, VA, including the East, South, and Central buildings at Navy Hill.

On behalf of DOS, in 2012 GSA received from the Navy custody of and accountability for Buildings 1 through 5 and the underlying land called Potomac Annex, adjacent to the existing DOS offices on Navy Hill. GSA and DOS entered into an associated Memorandum of Understanding requiring GSA to initiate the development of the PHCMP to guide future renovation and development of an 11.8 acre campus comprised of both sites. The PHCMP will develop the vision, goals, and development strategy for the property.

GSA is the lead agency for the PHCMP, and associated NEPA and NHPA compliance. DOS is a partner in the PHCMP development, a cooperating agency for NEPA and a signatory consulting party for NHPA.

Alternatives Under Consideration

GSA will analyze a range of alternatives including the no action alternative for the proposed PHCMP. As part of the EIS, GSA will study the impacts of each alternative on the human environment.

Scoping Process

In accordance with NEPA, a scoping process will be conducted to (i) aid in determining the alternatives to be considered and the scope of issues to be addressed, and (ii) identify the significant issues related to the PHCMP. “Scoping” is a tool for identifying the issues that should be addressed in the EIS and Section 106 consultation process. Scoping allows the public to help define priorities and express stakeholder and community issues to the agency through oral and written comments as described in 40 CFR part 1500.1(b). Scoping will be accomplished through a public scoping meeting, mail and email correspondence to potentially interested persons, agencies, and organizations, and meeting with agencies having an interest in the PHCMP. It is important that Federal, regional and local agencies, and interested individuals and groups take this opportunity to identify environmental concerns that should be addressed during the preparation of the Draft EIS.

GSA is also using the NEPA scoping process to facilitate consultation with the public under Section 106 of the National Historic Preservation Act. GSA welcomes comments from the public to ensure that it takes into account the effects of its action on historic and cultural resources.

Public Scoping Meeting

The public scoping meeting will be held on Wednesday, July 9, 2014, from 4:00 p.m. to 7:30 p.m. eastern standard time, at St. Mary's Church at 728 23rd Street NW. in Washington, DC. The meeting will be an informal open house where visitors may come, receive information, and give comments. GSA will publish announcement notices in the Washington Post and The Georgetowner approximately one to two weeks prior to the meeting. After scoping comments are received, they will be responded to in the EIS and through the Section 106 consultation process. A comment/response matrix summarizing the scoping and Section 106 comments will be made available to the public in the Draft and Final EIS.

Written Comments: Agencies and the public are encouraged to provide written comments on the scoping issues in addition to or in lieu of giving their comments at the public scoping meeting. Written comments regarding the environmental impact statement for the PHCMP must be postmarked or received no later than July 21, 2014, and sent to the following address: U.S. General Services Administration, National Capital Region, Attention: Jill Springer, NEPA Specialist, 301 7th Street SW., Room 4004, Washington, DC 20407. Email: potomachill@gsa.gov using the subject line: NEPA Scoping Comment.

Dated: June 10, 2014.
Mina Wright,
Director, Office of Planning and Design Quality, National Capital Region, Public Buildings Service.

[FR Doc. 2014-14064 Filed 6-16-14; 8:45 am]

BILLING CODE P